DEPARTMENT OF THE TREASURY

Internal Revenue Service

26 CFR Part 1

[REG-106702-00]

RIN 1545-AX94

Determination of Basis of Partner's Interest; Special Rules; Hearing Cancellation

AGENCY: Internal Revenue Service (IRS), Treasury.

ACTION: Cancellation of notice of public hearing on proposed rulemaking.

SUMMARY: This document provides notice of cancellation of a public hearing on proposed regulations relating to special rules on determination of basis of partner's interest under section 705 of the Internal Revenue Code.

DATES: The public hearing originally scheduled for Thursday, May 3, 2001 at 10 a.m., is cancelled.

FOR FURTHER INFORMATION CONTACT: Sonya M. Cruse of the Regulations Unit, (202) 622-7180 (not a toll-free number).

SUPPLEMENTARY INFORMATION: A notice of proposed rulemaking and/or notice or public hearing that appeared in the Federal Register on January 3, 2001, 66 FR 315, announced that a public hearing was scheduled for May 3, 2001 at 10:00 a.m., in Room 6718, 1111 Constitution Avenue, NW., Washington, DC. The subject of the public hearing is proposed regulations under section(s) 705 of the Internal Revenue Code. The public comment period of these proposed regulations expired on April 12, 2001.

The notice of proposed rulemaking and/or notice of public hearing, instructed those interested in testifying at the public hearing to submit a request to speak and an outline of the topics to be addressed. As of April 19, 2001, no one has requested to speak. Therefore, the public hearing scheduled for May 3, 2001, is cancelled.

LaNita Van Dyke,
Acting Chief, Regulations Unit, Office of Special Counsel (Modernization & Strategic Planning).

[FR Doc. 01-10546 Filed 4-26-01; 8:45 am]

BILLING CODE 4830-01-P